FEDERAL COMMUNICATIONS COMMISSION

[CG Docket No. 13-318; DA 14-1487]

Notice of Electronic Filing Procedures for Closed Captioning Exemption Requests for Video Programming Delivered Using Internet Protocol (IP)

AGENCY: Federal Communications Commission.

ACTION: Notice.

SUMMARY: In this document, the Commission announces electronic filing procedures for petitions for exemption from the Commission's closed captioning requirements for video programming delivered using Internet protocol (IP). This announcement notifies the public of the filing procedures for all individual closed captioning exemption petitions for IP-delivered video programming, all comments and oppositions responsive to such petitions, and all replies to comments or oppositions to such petitions, which the Commission's rules require be filed electronically.

DATES: The Commission's new electronic filing procedures regarding petitions for exemption from the Commission's closed captioning rules for IP-delivered video programming will take effect on December 1, 2014.

FOR FURTHER INFORMATION CONTACT: Suzy Rosen Singleton, Consumer and Governmental Affairs Bureau, Disability Rights Office, (202) 510-9446, email: Suzanne.Singleton@fcc.gov; or Caitlin Vogus, Consumer and Governmental Affairs Bureau, Disability Rights Office, (202) 418-1264, email: Caitlin.Vogus@fcc.gov.

SUPPLEMENTARY INFORMATION: This is a summary of the Commission's Public Notice, document DA 14-1487, released on October 14, 2014. The full text of document DA 14-1487, and any subsequently filed documents in this matter will be available for public inspection and copying via ECFS, and during regular business hours at the FCC Reference Information Center, Portals II, 445 12th Street SW., Room CY-A257, Washington, DC 20554. It also may be purchased from the Commission's duplicating contractor, Best Copy and Printing, Inc., Portals II, 445 12th Street SW., Room CY-B402, Washington, DC 20554, telephone: (800) 378-3160, fax: (202) 488-5563, or Internet: www.bcpiweb.com. Document DA 13-2190 can also be downloaded in Word or Portable Document Format (PDF) at http://www.fcc.gov/encyclopedia/closed-captioning-video-programming-delivered-using-internet-protocol-ip. To request materials in accessible formats for people with disabilities (Braille, large print, electronic files, audio format), send an email to fcc504@fcc.gov or call the Consumer and Governmental Affairs Bureau at (202) 418-0530 (voice), (202) 418-0432 (TTY).

Synopsis

1. In document DA 14-1487, the Commission's Consumer and Governmental Affairs Bureau (CGB or Bureau) announces electronic filing procedures for petitions for exemption from the Commission's closed captioning requirements for video programming delivered using Internet protocol (IP). On January 12, 2012, the Commission released the IP Closed Captioning Order adopting rules that require, among other things, that all individual closed captioning exemption petitions for IP-delivered video programming, all comments and oppositions responsive to such petitions, and all replies to comments or oppositions to such petitions be filed electronically. Closed Captioning of Internet Protocol-Delivered Video Programming: Implementation of the Twenty-First Century Communications and Video Accessibility Act of 2010, MB Docket No. 11-154, Report and Order (IP Closed Captioning Order); published at 77 FR 19479, March 30, 2012.

2. Exemption Petitions. In order to file a petition for exemption from the IP closed captioning rules electronically, the petitioner must send the petition, together with documentation supporting such a petition, via email to captioningexemption@fcc.gov. Petitions must be filed electronically by email and may not be filed via the Commission's Electronic Comment Filing System (ECFS). At this time, the Commission's email system does not accept attachments in the form of .ZIP files or file sizes larger than 13.3 megabytes. If a petitioner has concerns that its file size will exceed this limitation, it may contact Commission staff. Upon receipt of a petition, the Commission will send an acknowledgement to the petitioner by email. The Commission will also assign a case identifier number (for example, “CGB-CC-2345”) to the petition. This case identifier number and the reference to “CG Docket No. 13-318” must be included on all correspondence with the Commission regarding the petition, including any supplemental information to support the petition and subsequent pleadings in response to comments on or oppositions to the petition.

3. Once the petitioner provides the required information and documentation to the Commission, the petition will be placed on public notice, pursuant to the Commission's rules, to permit interested parties to file comments on or oppositions to the petition. The Commission will make the petition, as well as any supporting information and documentation provided, available for public inspection in the Commission's Reference Information Center and through ECFS at http://apps.fcc.gov/ecfs/. Because petitions and any supporting information and documentation provided by email to captioningexemption@fcc.gov will be uploaded to ECFS by the Commission, petitioners must follow the ECFS document format guidelines available at http://apps.fcc.gov/ecfs/userManual/upload/documents.jsp when submitting petitions and any supporting information and documentation via email. Petitioners are encouraged not to include personally sensitive information in their petitions, such as social security numbers, bank account and routing numbers, and other similarly sensitive information. If a petitioner nevertheless includes such sensitive information in its filing, it must redact (remove or conceal with black ink) such information from its submission. Unless otherwise directed by the petitioner, anything in the body of the petitioner's email will not be considered as part of the petition; rather only the attachments will be considered as part of the petition and posted on ECFS. If the petitioner wishes to also include content contained in the body of the email as part of the petition, which will be posted on ECFS, it should state so in the email.

4. Confidential Treatment. A petitioner may request confidential treatment of any information contained in or submitted in support of its petition. A petitioner seeking such treatment for any such information must submit, via email to captioningexemption@fcc.gov, a written request for confidential treatment and two versions of the petition: (1) A confidential version that contains the complete, unredacted submission; and (2) a public version that redacts any claimed confidential information. A request for confidential treatment may not be filed via ECFS. The request must comply with the requirements of 47 CFR 0.459, including: (a) Identification of the specific information submitted for which confidential treatment is sought; (b) a statement of the reasons for withholding those materials from public inspection; and (c) an explanation of how public disclosure of the information could result in substantial competitive harm. The request must show by a preponderance of the evidence that nondisclosure is consistent with the provisions of the Freedom of Information Act. Mere conclusory or generalized allegations cannot support a request for nondisclosure. In light of the Commission's desire for openness in its exemption petition review processes, if the Bureau determines that members of the public should have access to portions of a filing that the petitioner asserts are confidential, it may allow such access pursuant to a protective order. To help achieve such openness where a petitioner has sought confidentiality of certain information submitted in support of its petition, the petitioner should, to the extent possible, include in its petition the non-sensitive supporting information contained in the confidential materials so that members of the public may review, consider, and comment on the petition.

5. Comments and Oppositions. Comments on or oppositions to a petition must be filed electronically via ECFS at http://apps.fcc.gov/ecfs/upload/begin?filedFrom=E. The “ECFS Express” form cannot be used for the filing of comments or oppositions. If the submission is sent to the Commission only by email, the Commission will upload the submission to ECFS. Comments or oppositions filed via ECFS must include “13-318” as the “Proceeding Number” on the ECFS form. In addition, filers must enter the four-digit case identifier number (e.g., “CC-2345”) as the “File Number” on the ECFS form. If a filer wishes to file an identical set of comments or oppositions via ECFS on multiple petitions that have been assigned more than one case identifier number, the comments or oppositions must be filed separately for each petition/case identifier number. In such a case, a different case identifier number will have to be entered as the “File Number” for each separate filing (e.g., “CC-2345” entered as the File Number for the first filing and “CC-2346” entered as the File Number for the second filing and so on, even if the comments or oppositions being filed are identical to the first filing). Multiple case identifier numbers may not be entered as one “File Number.”

6. Replies. Replies to comments on or oppositions to a petition must be filed electronically via ECFS at http://apps.fcc.gov/ecfs/upload/begin?filedFrom=E. The “ECFS Express” form cannot be used for this purpose. If the submission is sent to the Commission only by email, the Commission will upload the submission to ECFS. Replies must include “13-318” as the “Proceeding Number” and the four-digit case identifier number (e.g., “CC-2345”) as the “File Number” in this proceeding. If a filer wishes to file an identical set of replies via ECFS on multiple petitions that have been assigned more than one case identifier number, the replies must be filed separately for each petition/case identifier number. In this case, a different case identifier number will have to be entered as the “File Number” for each separate filing (e.g., “CC-2345” entered as the File Number for the first filing and “CC-2346” entered as the File Number for the second filing and so on, even if the replies being filed are identical to the first filing). Multiple case identifier numbers may not be entered as one “File Number.”

Federal Communications Commission.
Gregory Hlibok,
Chief, Disability Rights Office.

[FR Doc. 2014-25828 Filed 10-29-14; 8:45 am]

BILLING CODE 6712-01-P